DEPARTMENT OF THE INTERIOR

Bureau of Land Management

[CA-670-03-1220-DU-064B]

Notice of Proposed Amendment to the California Desert Conservation Area Plan and Effective Date for Off-Road Vehicle Trail (Route of Travel) Designations in the Western Colorado Desert (WECO) Portion of Imperial County, CA

AGENCY: Department of Interior, Bureau of Land Management, California Desert District.

ACTION: Notice of amendment to the California Desert Conservation Area (CDCA) Plan and effective date for off-road vehicle trail (route of travel) designations in the Western Colorado Desert (WECO) portion of Imperial County, California.

DATES: Written protests on the Proposed Plan Amendment will be accepted if received by January 13, 2003. Instructions for filing protests are contained below under SUPPLEMENTARY INFORMATION.

SUMMARY: The Proposed Plan Amendment establishes or revises off-road vehicle designations of areas and trails (routes of travel) in accordance with part 43 Code of Federal Regulations subpart 8342. Trails (routes of travel) for inclusion in the State of California's Discovery Trail System and a segment of the Juan Bautista de Anza National Historic Trail are identified and authorized. The proposed designations pertain to public lands addressed by the California Desert Conservation Area Plan in the Western Colorado Desert (WECO) portion of Imperial County that lie west of the Imperial Sand Dunes Recreation Management Area.

ADDRESSES: The proposed amendment and environmental assessment are available for review on line at http://www.ca.blm.gov/elcentro and at the following address and telephone number: Bureau of Land Management, El Centro Field Office, 1661 South 4th Street, El Centro, CA 92243, (760) 337-4400.

FOR FURTHER INFORMATION CONTACT: Arnold Schoeck, Bureau of Land Management, 1661 South 4th Street, El Centro, CA 92243; (760) 337-4441.

SUPPLEMENTARY INFORMATION: The Bureau of Land Management published in the Federal Register on March 25, 2002, the Notice of Intent to prepare an Environmental Assessment and Plan Amendment to the California Desert Conservation Area Plan by making off-road vehicle trail (route of travel) designations in the Western Colorado Desert portion of Imperial County. The public scoping period for the project began March 25, 2002 and the Federal Register on May 23, 2002 extended the comment period until May 31, 2002. On October 18, 2002, in the Federal Register, the Notice of Availability for the Environmental Assessment and the plan amendment was published in the Federal Register on October 18, 2002. The Federal Register Notice started a 30-day public comment period that ended on November 18, 2002.

Any person who has participated in the plan amendment process and has an interest that is or may be adversely affected by the proposed amendment may protest such approval or amendment. A protest may raise only those issues that were submitted for the record during the planning process. Protests must be filed in writing with the BLM Director in accordance with 43 CFR 1610.5-2:

(i) The name, mailing address, telephone number and interest of the person filing the protest;

(ii) A statement of the issue or issues being protested;

(iii) A statement of the part or parts of the plan or amendment being protested;

(iv) A copy of all documents addressing the issue or issues that were submitted during the planning process by the protesting party or an indication of the date the issue or issues were discussed for the record; and

(v) A concise statement explaining why the State Director's decision is believed to be wrong. The decision of the Director on any protest shall be the final decision for the Department of the Interior.

Mailing address for filing a protest: Regular mail: Director (210), Attn: Brenda Williams, P.O. Box 66538, Washington, DC 20035.

Overnight mail: U.S. Department of the Interior, Director, Bureau of Land Management, Protest Coordinator (WO-210), 1620 “L” Street, NW., Rm 1075, Washington, DC 20036.

Greg Thomsen,
Field Manager, El Centro Field Office.

[FR Doc. 02-31517 Filed 12-12-02; 8:45 am]

BILLING CODE 4310-40-P